DEPARTMENT OF ENERGY

National Coal Council; Meeting

AGENCY: Department of Energy.

ACTION: Notice of open meeting.

SUMMARY: This notice announces a meeting of the National Coal Council (NCC) Coal Policy Committee. The Federal Advisory Committee Act (Pub. L. 92-463, 86 Stat. 770) requires that public notice of this meeting be announced in the Federal Register.

DATES: Tuesday, February 22, 2011. 10 a.m. to 2 p.m.

ADDRESSES: Hilton Hotel at the Ballpark, One South Broadway, St. Louis, Missouri 63102.

FOR FURTHER INFORMATION CONTACT: Michael J. Ducker, U.S. Department of Energy; 4G-036/Forrestal Building, 1000 Independence Avenue, SW., Washington, DC 20585-1290; Telephone: 202-586-7810.

SUPPLEMENTARY INFORMATION: Purpose of Meeting: To provide a review by the Committee of the final draft of the current study underway by the Council on the deployment of carbon capture and storage technologies.

Agenda: Review of the previously described draft report.

Public Participation: The meeting is open to the public. If you would like to file a written statement with the Committee, you may do so either before or after the meeting. If you would like to make oral statements regarding any potential items on the agenda, you should contact Michael J. Ducker, 202-586-7810 or Michael.Ducker@hq.doe.gov (e-mail). You must make your request for an oral statement at least 5 business days before the meeting. Reasonable provision will be made to include the scheduled oral statements on the agenda. The Chairperson of the Committee will conduct the meeting to facilitate the orderly conduct of business. Public comment will follow the 10-minute rule.

Minutes: The NCC will prepare meeting minutes within 45 days of the meeting. The minutes will be posted on the NCC Web site at http://www.nationalcoalcouncil.org/.

Issued at Washington, DC, on February 1, 2011.
LaTanya R. Butler,
Acting Deputy Committee Management Officer.

[FR Doc. 2011-2587 Filed 2-4-11; 8:45 am]

BILLING CODE 6450-01-P